NATIONAL SCIENCE FOUNDATION

Notice of Permit Applications Received Under the Antarctic Conservation Act of 1978 (Pub. L. 95-541)

AGENCY: National Science Foundation.

ACTION: Notice of Permit Applications Received under the Antarctic Conservation Act of 1978, Pub. Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by March 20, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Applicant: Jose L. Sericano (Permit Application No. 2006-027), Geochemical and Environmental Research Group (GERG), Texas A&M University, 833 Graham Road, College Station, TX 77845.

Activity for Which Permit is Requested: Take, Enter an Antarctic Specially Protected Area, and Import into the United States. The applicant proposes to collect abandoned eggs and tissue samples from salvaged penguins and seabirds for his doctoral research project involving the Environmental Management of the Admiralty Bay, KGI: Petroleum Hydrocarbons, Sewage Pollution, and Persistent Organic Pollutants. This project is a collaborative project between the Texas A&M University and the Brazilian National Science Foundation. The applicant proposes to enter the Admiralty Bay Antarctic Specially Protected Area to collect his samples. The samples will be kept frozen and finally destroyed at the university.

Location: Admiralty Bay Antarctic Specially Protected Area, King George Island.

Dates: February 1, 2006 to February 1, 2009.

Nadene G. Kennedy,
Permit Officer, Office of Polar Programs.

[FR Doc. 06-1496 Filed 2-16-06; 8:45 am]

BILLING CODE 7555-01-M